DEPARTMENT OF THE INTERIOR

Bureau of Land Management

[LLCO956000.L14200000 BJ0000]

Notice of Filing of Plats

AGENCY: Bureau of Land Management, Interior.

ACTION: Notice of filing of plats; Colorado.

SUMMARY: The Bureau of Land Management (BLM) Colorado State Office is publishing this notice to inform the public of the intent to file the land survey plats listed below, and to afford all affected parties a proper period of time to protest this action, prior to the plat filing.

DATES: Unless there are protests of this action, the filing of the plats described in this notice will happen on April 25, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The plat and field notes of the dependent resurvey in Township 10 South, Range 70 West, Sixth Principal Meridian, Colorado, were accepted on January 13, 2012.

The plat and field notes of the dependent resurvey and survey in Township 9 South, Range 71 West, Sixth Principal Meridian, Colorado, were accepted on January 13, 2012.

The plat and field notes of the dependent resurvey and survey in Township 10 South, Range 71 West, Sixth Principal Meridian, Colorado, were accepted on January 13, 2012.

The supplemental plat, in 4 sheets, of Section 8, in Township 1 North, Range 71 West, Sixth Principal Meridian, Colorado, was accepted on January 20, 2012.

The supplemental plat of Section 13, in Township 1 North, Range 72 West, Sixth Principal Meridian, Colorado, was accepted on January 27, 2012.

The plat incorporating the field notes, in 2 sheets, of the dependent resurvey in Township 51 North, Range 5 East, New Mexico Principal Meridian, Colorado, was accepted on February 3, 2012.

The plat and field notes of the section subdivision and survey in Township 7 South, Range 95 West, Sixth Principal Meridian, Colorado, were accepted on February 8, 2012.

The plat and field notes of the corrective dependent resurvey in Township 36 North, Range 11 West, New Mexico Principal Meridian, Colorado, were accepted on February 21, 2012.

Randy Bloom,
Chief Cadastral Surveyor for Colorado.

[FR Doc. 2012-7163 Filed 3-23-12; 8:45 am]

BILLING CODE 4310-JB-P